SECURITIES AND EXCHANGE COMMISSION

Proposed Collection; Comment Request

Upon Written Request, Copies Available From: Securities and Exchange Commission, Office of Filings and Information Services, Washington, DC 20549.

Extension:

Form 18, OMB Control No. 3235-0121, SEC File No. 270-105.

Form F-80, OMB Control No. 3235-0404, SEC File No. 270-357.

Notice is hereby given that pursuant to the Paperwork Reduction Act of 1995 (44 U.S.C. 3501 et seq.) the Securities and Exchange Commission (“Commission”) is soliciting comments on the collections of information summarized below. The Commission plans to submit these existing collections of information to the Office of Management Budget for extension and approval.

Form 18 is used for the registration of securities of any foreign government or political subdivision on a U.S. Exchange. The information collected is intended to ensure that the information required to be filed by the Commission permits verification of compliance with securities law requirements and assures the public availability. Form 18 takes approximately 8 hours per response and is filed by approximately 5 respondents for a total burden of 40 annual burden hours.

Form F-80 is used by large publicly traded Canadian foreign private issuers registering securities offered in business combinations and exchange offers. The information collected is intended to ensure that the information required to be filed by the Commission permits verification of compliance with securities law requirements and assures the public availability. Form F-80 takes approximately 2 hours per response and is filed by 4 issuers for a total annual burden of 8 hours.

Written comments are invited on: (a) Whether these proposed collections of information are necessary for the proper performance of the functions of the agency, including whether the information will have practical utility; (b) the accuracy of the agency's estimate of the burden of the collection of information collection information; (c) ways to enhance the quality, utility, and clarity of the information collected; and (d) ways to minimize the burden of the collection of information on respondents, including through the use of automated collection techniques or other forms of information technology. Consideration will be given to comments and suggestions submitted in writing within 60 days of this publication.

Please direct your written comments to Kenneth A. Fogash, Acting Associate Executive Director/CIO, Office of Information Technology, Securities and Exchange Commission, 450 Fifth Street, NW Washington, DC 20549.

Dated: May 27, 2003.
Jill M. Peterson,
Assistant Secretary.

[FR Doc. 03-13683 Filed 5-30-03; 8:45 am]

BILLING CODE 8010-01-P